DEPARTMENT OF COMMERCE

International Trade Administration

SABIT Applications and Questionnaires

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (2)(A)).

DATES: Written comments must be submitted on or before August 20, 2004.

ADDRESSES: Direct all written comments to Diana Hynek, Departmental Paperwork Clearance Officer, Department of Commerce, Room 6625, 14th & Constitution Avenue, NW., Washington, DC 20230; phone number: (202) 482-0266; e-mail: dHynek@doc.gov.

FOR FURTHER INFORMATION CONTACT: Request for additional information or copies of the information collection should be directed to: Erin Schumacher, SABIT, Department of Commerce, FCB 4100W, 14th Street & Constitution Avenue, NW., Washington, DC 20230; phone: (202) 482-0073; fax: (202) 482-2443, e-mail: Erin_Schumacher@ita.doc.gov.

SUPPLEMENTARY INFORMATION:

I. Abstract

The Special American Business Internship Training (SABIT) programs of the Department of Commerce's International Trade Administration (ITA), are a key element in the U.S. Government's efforts to support the economic transition of Eurasia (the former Soviet Union). SABIT places business executives and scientists from Eurasia in U.S. firms for one-to-six month internships to gain firsthand experiences working in a market economy. This unique private sector-U.S. Government partnership was created in order to tap the U.S. private sector's expertise in assisting Eurasia's transition to a market economy while boosting U.S.-Eurasian long-term trade. Under the original or “Grant” SABIT program, qualified U.S. firms will receive funds through a cooperative agreement with ITA to help defray the cost of hosting interns. The information collected by the Application is needed by the SABIT staff to recruit and screen respondents and provide U.S. firms with a pool of eligible candidates from which to select interns. Intern applications are required to determine the suitability of candidates for SABIT internships. Feedback surveys and end-of-internship reports are needed to enable SABIT to track the success of the program as regards trade between the U.S. and the countries of Eurasia, as well as to improve the content and administration of the programs. The closing date for applications and supplemental materials is approximately 120 days after the date of publication in the Federal Register. Pursuant to section 632(a) of the Foreign Assistance Act of 1961, as amended (the “Act”) funding for the program will be provided by the Agency for International Development (AID).

II. Method of Collection

Applications are sent to U.S. companies and intern candidates via facsimile or mail upon request. Feedback surveys are given to participating U.S. companies and interns at the completion of programs.

III. Data

OMB Number: 0625-0225.

Form Number: ITA-4143P-5.

Type of Review: Regular submission.

Affected Public: Business or other non-profit, individuals (non-U.S. citizens).

Estimated Number of Respondents: 1600.

Estimated Time Per Response: 1.8 hours.

Estimated Total Annual Burden Hours: 2,875.

Estimated Total Annual Costs: $89,000.

IV. Request for Comments

Comments are invited on (a) whether the proposed collection of information is necessary for the proper performance of the functions of the agency, including whether the information shall have the practical utility; (b) the accuracy of the agency's estimate of the burden (including the hours and costs) of the proposed collection of information; (c) ways to enhance the quality, utility and clarity of the information to be collected; and (d) ways to minimize the burden of the collection of information on respondents, including through the use of automated collection techniques of forms of information technology.

Comments submitted in response to this notice will be summarized and/or included in the request for OMB approval of this information collection; they also will become a matter of public record.

Dated: June 15, 2004.
Madeleine Clayton,
Management Analyst, Office of the Chief Information Officer.

[FR Doc. 04-13896 Filed 6-18-04; 8:45 am]

BILLING CODE 3510-HE-P